DEPARTMENT OF HEALTH AND HUMAN SERVICES

National Committee on Vital and Health Statistics: Teleconference

Pursuant to the Federal Advisory Committee Act, the Department of Health and Human Services (HHS) announces the following Subcommittee meetings of the National Committee on Vital and Health Statistics to be held virtually.

Name: National Committee on Vital and Health Statistics (NCVHS), Virtual Meetings of the Subcommittee.

Dates and Times:

NCVHS Population Health Subcommittee; Tuesday, November 28, 2017: 9:00 a.m.—1:00 p.m. ET

NCVHS Privacy, Confidentiality, and Security Subcommittee; Tuesday, November 28, 2017: 1:30 p.m.—5:30 p.m. ET

NCVHS Standards Subcommittee; Wednesday, November 29, 2017: 1:00 p.m.—5:00 p.m. ET

Place: WebEx/teleconference—To participate in the virtual meeting, please use the following URL http://www.ncvhs.hhs.gov/ that points to the NCVHS homepage. Further information and meeting agendas will be available on the NCVHS Web site including instructions for accessing the live meeting broadcast.

Status: Open by WebEx/teleconference. There will be an open comment period during the final 10 minutes of each of the three virtual meetings where the public can provide comments via the WebEx on-line meeting interface. Written comments may also be provided to the Executive Secretary at the contact information provided below.

Purpose: The NCVHS virtual meeting of the Population Health Subcommittee will convene to discuss: (1) Follow up work on the NCVHS September 11-12, 2017 Next Generation Vital Statistics Hearing, including the draft hearing report and follow up analyses being conducted on the Committee's behalf, and; (2) topics and projects to be considered for the 2018 workplan.

The NCVHS virtual meeting of the Privacy, Confidentiality and Security Subcommittee will convene to discuss a draft environmental scan report of the health information privacy and security landscape in the U.S. that extends beyond HIPAA. This will include formal presentations from invited experts to further inform the draft environmental scan research being conducted on the Committee's behalf. The agenda also will include discussion of privacy-related topics under consideration for the 2018 workplan.

The NCVHS virtual meeting of the Standards Subcommittee will convene to consider the Subcommittee's workplan and high level milestones for three possible projects in 2018: (1) A Chief Information Officer (CIO) Forum; (2) the challenge of patient identification and matching for healthcare providers and patients; and (3) potential guidance pertaining to the prior authorization transaction. In addition, CMS will provide a briefing to the Subcommittee on the New Medicare Card Project.

For more Information Contact: Substantive program information may be obtained from Rebecca Hines, MHS, Executive Secretary, NCVHS, National Center for Health Statistics, Centers for Disease Control and Prevention, 3311 Toledo Road, Hyattsville, Maryland 20782, telephone (301) 458-4715. Summaries of meetings and a roster of Committee members are available on the NCVHS Web site: http://www.ncvhs.hhs.gov/, where further information including an agenda and instructions to access the broadcast of the meeting will be posted.

Dated: October 23, 2017.
Laina Bush,
Deputy Assistant Secretary for Planning and Evaluation, Office of the Assistant Secretary for Planning and Evaluation.

[FR Doc. 2017-23358 Filed 10-26-17; 8:45 am]

BILLING CODE 4151-05-P